ENVIRONMENTAL PROTECTION AGENCY

40 CFR Part 52

[EPA-R05-OAR-2016-0512; EPA-R05-2016-0522; EPA-R05-OAR-2017-0322; FRL-9964-98-Region 5]

Air Plan Approval; Illinois; NAAQS Updates

AGENCY: Environmental Protection Agency (EPA).

ACTION: Proposed rule.

SUMMARY: The Environmental Protection Agency (EPA) is approving revised rules submitted by the State of Illinois as State Implementation Plan (SIP) revisions. The submitted rules update Illinois' ambient air quality standards to include the 2015 primary National Ambient Air Quality Standard (NAAQS) for ozone (O3), add EPA-promulgated monitoring methods for multiple NAAQS, and address EPA's revocation of the 1997 O3 NAAQS. In addition, the revised rules contain the timing requirements for the “flagging of exceptional events” and the submission of documentation supporting exceptional events for the initial area designations for the 2015 primary annual O3 standard. These SIP revisions update Illinois air pollution control regulations to be “identical-in-substance” to EPA rulemakings related to the NAAQS that occurred between January 1, 2014 and July 13, 2016.

DATES: Comments must be received on or before August 17, 2017.

ADDRESSES: Submit your comments, identified by Docket ID No. EPA-R05-OAR-2016-0512, EPA-R05-OAR-2016-0522, or EPA-R05-2017-0322 at https://www.regulations.gov or via email to aburano.douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the For Further Information Contact section. For the full EPA public comment policy, information about CBI or multimedia submissions, and general guidance on making effective comments, please visit https://www2.epa.gov/dockets/commenting-epa-dockets.

FOR FURTHER INFORMATION CONTACT: Michelle Becker, Life Scientist, Attainment Planning and Maintenance Section, Air Programs Branch (AR-18J), Environmental Protection Agency, Region 5, 77 West Jackson Boulevard, Chicago, Illinois 60604, (312) 886-3901, becker.michelle@epa.gov.

SUPPLEMENTARY INFORMATION: In the Final Rules section of this issue of the Federal Register, EPA is approving the State's SIP submittal as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment. For additional information, see the direct final rule which is located in the Rules section of this issue of the Federal Register.

Dated: July 6, 2017.
Cheryl L. Newton,
Acting Regional Administrator, Region 5.

[FR Doc. 2017-14945 Filed 7-17-17; 8:45 am]

BILLING CODE 6560-50-P